DEPARTMENT OF STATE

[Public Notice: 11086]

Defense Trade Advisory Group; Notice of Open Meeting

The Defense Trade Advisory Group (DTAG) will meet in open session from 1:00 p.m. until 5:00 p.m. on Thursday, May 14, 2020. Based on federal and state guidance in response to the Covid-19 pandemic, the meeting will be held virtually. The virtual forum will open at 12:00 p.m. The membership of this advisory committee consists of private sector defense trade representatives, appointed by the Assistant Secretary of State for Political-Military Affairs, who advise the Department on policies, regulations, and technical issues affecting defense trade. The DTAG was established as an advisory committee under the authority of 22 U.S.C. Sections 2651a and 2656 and the Federal Advisory Committee Act, 5 U.S.C. App. The purpose of the meeting will be to discuss current defense trade issues and topics for further study. The following agenda topics will be discussed and final reports presented: (1) Prioritizing Defense Export Control and Compliance System (DECCS) enhancements. (2) Improving compliance guidelines for companies and universities. (3) Exploring options for improving reporting on political contributions, gifts, commissions, and fees (commonly referred to as ITAR “Part 130” reporting) pursuant to 22 U.S.C. 2779, and where appropriate making recommendations for improvement. (4) Exploring types of “open” or other flexible export authorizations administered by other countries, and in the member's experience what works well when operating within such authorizations.

The meeting will be held in WebEx. There will be one WebEx invitation for each attendee, and only the attendee should use the invitation. In addition, each attendee should access the virtual meeting from a private location. Please let us know if you need any of the following accommodations: live captions, digital/text versions of webinar materials, or other (please specify).

Members of the public may attend this virtual session and will be permitted to participate in the question and answer discussion period following the formal DTAG presentation on each agenda topic in accordance with the Chair's instructions. Members of the public may also submit a brief statement (less than three pages) to the committee in writing for inclusion in the public minutes of the meeting. Virtual attendance is limited to 125 persons, so each member of the public that wishes to attend this session must provide: Name and contact information, including an email address and phone number, and any request for reasonable accommodation to the DTAG Alternate Designated Federal Officer (ADFO), Neal Kringel, via email at DTAG@state.gov by COB Monday, April 27, 2020.

FOR FURTHER INFORMATION CONTACT: Ms. Barbara Eisenbeiss, PM/DDTC, SA-1, 12th Floor, Directorate of Defense Trade Controls, Bureau of Political-Military Affairs, U.S. Department of State, Washington, DC 20522-0112; telephone (202) 663-2835 or email DTAG@state.gov.

Neal F. Kringel,
Alternate Designated Federal Officer, Defense Trade Advisory Group, U.S. Department of State.

[FR Doc. 2020-07829 Filed 4-13-20; 8:45 am]

BILLING CODE 4710-25-P